DEPARTMENT OF THE INTERIOR

National Park Service

[NPS-WASO-NAGPRA-NPS0035097; PPWOCRADN0-PCU00RP14.R50000]

Notice of Inventory Completion: South Carolina Institute of Archaeology and Anthropology, University of South Carolina, Columbia, SC

AGENCY: National Park Service, Interior.

ACTION: Notice.

SUMMARY: In accordance with the Native American Graves Protection and Repatriation Act (NAGPRA), the South Carolina Institute of Archaeology and Anthropology (SCIAA) has completed an inventory of human remains and associated funerary objects and has determined that there is a cultural affiliation between the human remains and associated funerary objects and Indian Tribes or Native Hawaiian organizations in this notice. The human remains and associated funerary objects were removed from Lancaster County, SC.

DATES: Repatriation of the human remains and associated funerary objects in this notice may occur on or after February 13, 2023.

ADDRESSES: Adam King, South Carolina Institute of Archaeology and Anthropology (SCIAA), College of Arts and Sciences, University of South Carolina, 1321 Pendleton Street, Columbia, SC 29208, telephone (803) 409-9777, email aking@sc.edu.

SUPPLEMENTARY INFORMATION: This notice is published as part of the National Park Service's administrative responsibilities under NAGPRA. The determinations in this notice are the sole responsibility of the SCIAA. The National Park Service is not responsible for the determinations in this notice. Additional information on the determinations in this notice, including the results of consultation, can be found in the inventory or related records held by the SCIAA.

Description

In 1965, human remains representing, at minimum, one individual were removed from site 38LA00-JH, in Lancaster County, SC, by Mr. John R. Hart of York, SC, from a “Historic Catawba Burial, near Van Wyck, South Carolina.” In 1981, the human remains were donated to SCIAA following Mr. Hart's death by his son, Mr. John R. Hart III. No known individual was identified. The 79 associated funerary objects are 11 metal arm band fragments; 27 round metal trade brooches; three heart shaped metal trade brooches; 10 metal disk button fragments; five metal ball buttons; two faceted, clear glass button/jewelry insets; 18 metal jewelry fragments [three wire hoops, two flat triangles, eight cut triangles with bead dangles, three dangles, and two eagles], one lot of glass beads, one lot of miscellaneous cut nail fragments, and one lot of miscellaneous fabric fragments.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, SCIAA has determined that:

• The human remains described in this notice represent the physical remains of one individual of Native American ancestry.

• The 79 objects described in this notice are reasonably believed to have been placed with or near individual human remains at the time of death or later as part of the death rite or ceremony.

• There is a relationship of shared group identity that can be reasonably traced between the human remains and associated funerary objects described in this notice and the Catawba Indian Nation (previously listed as Catawba Tribe of South Carolina).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 13, 2023. If competing requests for repatriation are received, the SCIAA must determine the most appropriate requestor prior to repatriation. Requests for joint repatriation of the human remains and associated funerary objects are considered a single request and not competing requests. The SCIAA is responsible for sending a copy of this notice to the Indian Tribes and Native Hawaiian organizations identified in this notice.

Authority: Native American Graves Protection and Repatriation Act, 25 U.S.C. 3003, and the implementing regulations, 43 CFR 10.9, 10.10, and 10.14.

Dated: January 4, 2023.
Melanie O'Brien,
Manager, National NAGPRA Program.

[FR Doc. 2023-00468 Filed 1-11-23; 8:45 am]

BILLING CODE 4312-52-P